DEPARTMENT OF COMMERCE

National Oceanic and Atmospheric Administration

50 CFR Part 648

[Docket No. 170207156-7225-01]

RIN 0648-XF219

Fisheries of the Northeastern United States; Northeast Multispecies Fishery; Adjustment of Georges Bank and Southern New England/Mid-Atlantic Yellowtail Flounder Annual Catch Limits

AGENCY: National Marine Fisheries Service (NMFS), National Oceanic and Atmospheric Administration (NOAA), Commerce.

ACTION: Temporary rule; adjustment of annual catch limits.

SUMMARY: This action transfers unused quota of Georges Bank and Southern New England/Mid-Atlantic yellowtail flounder from the Atlantic scallop fishery to the Northeast multispecies fishery for the remainder of the 2016 fishing year, which ends on April 30, 2017. This quota transfer is justified when the scallop fishery is not expected to catch its entire allocations of yellowtail flounder. The quota transfer is intended to provide additional fishing opportunities for groundfish vessels to help achieve the optimum yield for these stocks while ensuring sufficient amounts of yellowtail flounder are available for the scallop fishery.

DATES: Effective March 13, 2017, through April 30, 2017.

FOR FURTHER INFORMATION CONTACT: Emily Keiley, Fishery Management Specialist, (978) 281-9116.

SUPPLEMENTARY INFORMATION: NMFS is required to estimate the total amount of yellowtail flounder catch from the scallop fishery on or around January 15 each year. If the scallop fishery is expected to catch less than 90 percent of its Georges Bank (GB) or Southern New England/Mid-Atlantic (SNE/MA) yellowtail flounder sub-ACL, the Regional Administrator (RA) has the authority to reduce the scallop fishery sub-annual catch limit (sub-ACL) for these stocks to the amount projected to be caught, and increase the groundfish fishery sub-ACL for these stocks up to the amount reduced from the scallop fishery. This adjustment is intended to help achieve optimum yield for these stocks, while not threatening an overage of the ACLs for the stocks by the groundfish and scallop fisheries.

Based on the most current available data, we project that the scallop fishery will have unused quota in the 2016 fishing year. The scallop fishery is projected to catch approximately 2 mt of GB yellowtail flounder, or 5 percent of its 2016 fishing year sub-ACL, and approximately 17 mt of SNE/MA yellowtail flounder, or 53 percent of its 2016 fishing year sub-ACL. Because the scallop fishery is not expected to catch its entire allocation of GB and SNE/MA yellowtail flounder, this rule reduces the scallop sub-ACL for both stocks to the upper limit projected to be caught, and increases the groundfish sub-ACLs for these stocks by the same amount, effective March 13, 2017, through April 30, 2017. This transfer is based on the upper limit of expected yellowtail flounder catch by the scallop fishery, which is expected to minimize any risk of an ACL overage by the scallop fishery while still providing additional fishing opportunities for groundfish vessels.

Table 1 summarizes the revisions to the 2016 fishing year sub-ACLs, and Table 2 shows the revised allocations for the groundfish fishery as allocated between the sectors and common pool based on final sector membership for fishing year 2016.

Table 1—Georges Bank and Southern New England/Mid-Atlantic Yellowtail Flounder Sub-ACLs
Stock | Fishery | Initial sub-ACL (mt) | Revised sub-ACL (mt) | Change (mt) | Percent change
GB Yellowtail Flounder | Groundfish | 211 | 250.8 | +39.8 | +19
| Scallop | 42 | 2.2 | −39.8 | −95
SNE/MA Yellowtail Flounder | Groundfish | 189 | 204.2 | +15.2 | +8
| Scallop | 32 | 16.8 | −15.2 | −48

Table 2—Allocations for Sectors and the Common Pool
[In pounds]
Sector name | GB yellowtail flounder: Revised | GB yellowtail flounder: Original | SNE/MA yellowtail flounder: Revised | SNE/MA yellowtail flounder: Original
Fixed Gear Sector/FGS | 78 | 66 | 1,664 | 1,540
Maine Coast Community Sector | 20 | 17 | 3,460 | 3,203
Maine Permit Bank | 76 | 64 | 143 | 132
Northeast Coastal Communities Sector | 4,620 | 3,887 | 3,238 | 2,997
North East Fishery Sector (NEFS) 1 |  |  |  |
NEFS 2 | 10,312 | 8,675 | 7,779 | 7,200
NEFS 3 | 248 | 209 | 300 | 277
NEFS 4 | 11,951 | 10,055 | 10,569 | 9,783
NEFS 5 | 7,443 | 6,262 | 104,801 | 97,000
NEFS 6 | 14,943 | 12,571 | 23,697 | 21,933
NEFS 7 | 18,865 | 15,872 | 11,114 | 10,287
NEFS 8 | 58,817 | 49,483 | 23,468 | 21,722
NEFS 9 | 139,287 | 117,183 | 39,219 | 36,300
NEFS 10 | 6 | 5 | 2,388 | 2,210
NEFS 11 | 8 | 7 | 79 | 73
NEFS 12 | 2 | 2 | 47 | 44
NEFS 13 | 190,714 | 160,449 | 94,545 | 87,507
New Hampshire Permit Bank | 0 | 0 | 0 | 0
Sustainable Harvest Sector 1 | 6,702 | 5,639 | 2,691 | 2,491
Sustainable Harvest Sector 2 | 12,216 | 10,278 | 10,095 | 9,344
Sustainable Harvest Sector 3 | 68,558 | 57,678 | 33,573 | 31,074
Common Pool | 8,053 | 6,775 | 77,312 | 71,558
Sector Total | 544,866 | 458,400 | 372,871 | 345,116
Groundfish Total | 552,919 | 465,175 | 450,184 | 416,674

Classification

Pursuant to section 304(b)(1)(A) of the Magnuson-Stevens Act, the NMFS Assistant Administrator has determined that the management measures implemented in this final rule are necessary for the conservation and management of the Northeast multispecies fishery and consistent with the Magnuson-Stevens Act, and other applicable law.

This action is authorized by 50 CFR part 648 and is exempt from review under Executive Order 12866.

The Assistant Administrator for Fisheries finds good cause pursuant to 5 U.S.C. 553(b)(B) to waive prior notice and the opportunity for public comment for these adjustments because notice and comment would be impracticable and contrary to the public interest. NMFS is required to project GB and SNE/MA yellowtail flounder catch in the scallop fishery on or around January 15 of each year so that projected unused quota can be transferred to the groundfish fishery. The data did not become available until February 8, 2017. There is insufficient time to allow for prior public notice and comment for the transfer of quota for these yellowtail flounder if the transfer is to be of benefit to the groundfish fishery. The Northeast multispecies fishing year ends on April 30, 2017. If NMFS allowed for the time necessary to provide for prior notice and comment, it would be unlikely that the transfer would occur in time to allow groundfish vessels to harvest the additional quota of these stocks before the end of the fishing year. As a result, groundfish fishermen would not receive additional allocation that is intended to offset their current negative economic circumstances due to the severe decreases in ACLs of several important groundfish stocks. Giving effect to this rule as soon as possible will help relieve fishermen from more restrictive ACLs for the yellowtail stocks and help achieve optimum yield in the fishery. For these same reasons, the NMFS Assistant Administrator also finds good cause pursuant to 5 U.S.C. 553(d)(3) to waive the 30-day delay in effectiveness for this action. Further, there is no need to allow the industry additional time to adjust to this rule because it does not require any compliance or other action on the part of individual scallop or groundfish fishermen.

Because notice and opportunity for comment are not required pursuant to 5 U.S.C. 553 or any other law, the analytical requirements of the Regulatory Flexibility Act (5 U.S.C. 601 et seq.) are inapplicable. Therefore, a regulatory flexibility analysis is not required and one has not been prepared.

Authority: 16 U.S.C. 1801 et seq.

Dated: March 9, 2017.
Alan D. Risenhoover,
Acting Deputy Assistant Administrator for Regulatory Programs, National Marine Fisheries Service.

[FR Doc. 2017-04959 Filed 3-13-17; 8:45 am]

BILLING CODE 3510-22-P